DEPARTMENT OF TRANSPORTATION

Maritime Administration

[USCG-2005-22219]

Northeast Gateway Energy Bridge, L.L.C., Liquefied Natural Gas Deepwater Port License Application; Final Application Public Hearings and Final Environmental Impact Statement

AGENCY: Maritime Administration, DOT.

ACTION: Notice of availability; notice of public hearings; request for comments.

SUMMARY: The Maritime Administration (MARAD) and the U.S. Coast Guard (USCG) announce the availability of the Final Environmental Impact Statement (FEIS) for the Northeast Gateway Energy Bridge, L.L.C., Liquefied Natural Gas Deepwater Port license application. Also, public hearings will be held on matters relevant to the approval or denial of the license application. The application describes a project that would be located in federal waters of Massachusetts Bay, in Block 125, approximately 13 miles south-southeast of Gloucester, MA. The Coast Guard and MARAD request public comments on the FEIS and application. Publication of this notice begins a 30-day public comment period and provides information on how to participate in the process.

As a point of clarification, there is another deepwater port application by Neptune LNG, L.L.C. in the same vicinity. These applications are being processed and reviewed independently. The Neptune FEIS should be noticed as available and public hearing information published on November 3, 2006.

DATES: Public hearings will be held in Gloucester, MA on November 8, 2006 and in Salem, MA on November 9, 2006. Both hearings will be from 6 p.m. to 8 p.m. and will be preceded by an informational open house from 4:30 p.m. to 6 p.m. The public hearings may end later than the stated time, depending on the number of persons wishing to speak.

Material submitted in response to the request for comments on the FEIS and application must reach the Docket Management Facility by November 25, 2006 ending the 30-day public comment period.

Federal and State agencies must submit comments, recommended conditions for licensing, or letters of no objection by December 26, 2006 (45 days after the final public hearings). Also by December 26, 2006, the Governor of Massachusetts (the adjacent coastal state) may approve, disapprove, or notify MARAD of inconsistencies with State programs relating to environmental protection, land and water use, and coastal zone management for which MARAD may condition the license to make consistent.

MARAD must issue a record of decision (ROD) to approve, approve with conditions, or deny the DWP license application by February 7, 2007 (90 days after the public hearings).

For dates required by the Massachusetts Environmental Policy Act (MEPA) schedule, please see that section at the end of this notice.

ADDRESSES: The public hearing in Gloucester will be held at the Gloucester High School Auditorium, 32 Leslie O. Johnson Road, Gloucester, MA, telephone: 617-635-4100. The public hearing in Salem will be at the Salem State College Library, Charlotte Forten Hall, 360 Lafayette Street, Salem, MA, telephone: 978-542-7192.

The FEIS, the application, comments and associated documentation are available for viewing at the DOT's Docket Management System Web site: http://dms.dot.gov under docket number 22219. The FEIS is also available at public libraries in Beverly, Boston (Central Library), Gloucester, Manchester-by-the-Sea, Marblehead, Rockport, and Salem.

Address docket submissions for USCG-2005-22219 to: Docket Management Facility, U.S. Department of Transportation, 400 Seventh Street, SW., Washington, DC 20590-0001.

The Docket Management Facility accepts hand-delivered submissions, and makes docket contents available for public inspection and copying at this address, in room PL-401, between 9 a.m. and 5 p.m., Monday through Friday, except Federal holidays. The Facility's telephone number is 202-366-9329, its fax number is 202-493-2251, and its Web site for electronic submissions or for electronic access to docket contents is http://dms.dot.gov.

FOR FURTHER INFORMATION CONTACT: Roddy Bachman, U.S. Coast Guard, telephone: 202-372-1451, e-mail: Roddy.C.Bachman@uscg.mil. If you have questions on viewing the docket, call Renee V. Wright, Program Manager, Docket Operations, telephone: 202-493-0402.

SUPPLEMENTARY INFORMATION:

Public Hearing and Open House

We invite you to learn about the proposed deepwater port at an informational open house, and to comment at a public hearing on the proposed action and the evaluation contained in the FEIS. Speaker registrations will be available at the door. In order to allow everyone a chance to speak at the public hearings, we may limit speaker time, or extend the hearing hours, or both. You must identify yourself, and any organization you represent, by name. Your remarks will be recorded or transcribed for inclusion in the public docket.

You may submit written material at the public hearing, either in place of or in addition to speaking. Written material must include your name and address, and will be included in the public docket.

Public docket materials will be made available to the public on the Docket Management Facility's Docket Management System (DMS). See “Request for Comments” for information about DMS and your rights under the Privacy Act.

All of our public hearing locations are wheelchair-accessible. If you plan to attend an open house or public hearing, and need special assistance such as sign language interpretation or other reasonable accommodation, please notify the Coast Guard (see FOR FURTHER INFORMATION CONTACT) at least 3 business days in advance. Include your contact information as well as information about your specific needs.

Request for Comments

We request public comments or other relevant information on the FEIS and application. The public hearing is not the only opportunity you have to comment. In addition to or in place of attending a hearing, you can submit comments to the Docket Management Facility during the public comment period (see DATES). The Coast Guard and MARAD will consider all comments and material received during the comment period.

Submissions should include:

• Docket number USCG-2005-22219.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Background

We published the Notice of Application for the proposed Northeast Gateway liquefied natural gas (LNG) deepwater port and information on regulations and statutes governing licensing in the Federal Register at 70 FR 52422, September 2, 2005; the Notice of Intent to Prepare an EIS for the proposed action was published at 70 FR 58228, October 5, 2005; and the Notice of Availability of the Draft EIS was published at 71 FR 29211, May 19, 2006. The FEIS, application materials and associated comments and documentation are available on the docket. Information from the “Summary of the Application” from previous Federal Register notices is included below for your convenience.

Proposed Action and Alternatives

The proposed action requiring environmental review is the Federal licensing of the proposed deepwater port described in “Summary of the Application” below. The alternatives to licensing the proposed port are: (1) Licensing with conditions (including conditions designed to mitigate environmental impact), and (2) denying the application, which for purposes of environmental review is the “no-action” alternative. These alternatives are more fully discussed in the FEIS. The Coast Guard is the lead Federal agency for the preparation of the EIS. You can address any questions about the proposed action or the FEIS to the Coast Guard project manager identified in FOR FURTHER INFORMATION CONTACT.

Summary of the Application

Northeast Gateway Energy Bridge, L.L.C. has proposed a facility to import liquefied natural gas (LNG) into the New England region providing a base load delivery of 400 million cubic feet per day (MMcfd) and capable of peak deliveries of approximately 800 MMcfd or more. The facility would be located offshore in Massachusetts Bay, approximately 13 miles south-southeast of the city of Gloucester, MA, in Federal waters approximately 270 to 290 feet in depth, commonly referred to as Block 125.

Northeast Gateway would deliver natural gas to onshore markets via a new 24-inch-diameter pipeline, approximately 16.4 miles in length, from the proposed deepwater port to the existing offshore 30-inch-diameter Algonquin HubLine Pipeline System. The proposed new pipeline lateral would be owned and operated by Algonquin Gas Transmission, LLC. The new pipeline is included in the National Environmental Policy Act (NEPA) review as part of the deepwater port application process.

The Northeast Gateway deepwater port facility would consist of two subsea submerged turret loading buoys (STL Buoys), two flexible risers, two pipeline end manifolds (PLEMs), and two subsea flow lines. Each STL Buoy would connect to a PLEM using the flexible riser assembly, and the PLEM will connect to the subsea flow line. A fleet of specially designed Energy Bridge Regasification Vessels (EBRVs), each capable of transporting approximately 4.9 million cubic feet (138,000 cubic meters) of LNG, would deliver natural gas to the Northeast Gateway DWP. The EBRVs will vaporize the LNG in a closed loop mode of recirculating fresh water on-board requiring no intake or discharge of seawater for the vaporization process. Natural gas would be used to operate the regasification facilities as well as to provide vessel electrical needs in normal operation.

Federal Energy Regulatory Commission and Army Corps of Engineers

Algonquin is seeking Federal Energy Regulatory Commission (FERC) approval for the proposed 24-inch-diameter- pipeline concurrent with this deepwater port application. In addition, pipelines within the three-mile limit require an Army Corps of Engineers (USACE) permit under Section 404 of the Clean Water Act and Section 10 of the Rivers and Harbors Act. Structures such as the moorings and lateral pipelines beyond the three-mile limit require a Section 10 permit.

As required by their regulations, FERC will also maintain a docket. This is available at the FERC Web site (http://www.ferc.gov) using the “Documents & Filing” then “eLibrary” link and FERC Docket number CP05-383. The eLibrary helpline is 1-866-208-3676 or e-mail online support at FercOnlineSupport@ferc.gov.

As required by their regulations, the USACE has maintained a permit file. The USACE New England District phone number is 978-318-8338 and their Web site is http://www.nae.usace.army.mil.

Comments sent to the FERC docket or USACE have been incorporated into the EIS; will continue to be incorporated into the DOT docket; and will continue to be considered in the licensing, USACE permitting and FERC order decisions. FERC and the USACE, among others, are cooperating agencies and are assisting in the NEPA process as described in 40 CFR 1501.6., and have conducted joint public hearings with the Coast Guard and MARAD.

Massachusetts Environmental Policy Act (MEPA)

Through a Special Review Procedure established by the Massachusetts Executive Office of Environmental Affairs (EOEA), the USCG and the MEPA Office are conducting a coordinated NEPA/MEPA review allowing a single set of documents to serve simultaneously as both the EIS under NEPA and the Environmental Impact Report (EIR) under MEPA. The Certificates establishing the Special Review Procedure and the Scope for the Environmental Impact Report can be viewed at http://www.mass.gov/envir/mepa/thirdlevelpages/monitorarchives/archives/25july06.htm. The EIR was published in the Environmental Monitor on October 25, 2006; ENF comments will be due November 14, 2006; ENF decisions will be due November 24, 2006; the Secretary of Environmental Affairs will accept written comments on the Environmental Impact Report through November 24, 2006; and the EIR decisions (Certificate) will be due December 1, 2006. Comments may be submitted electronically, by mail, via FAX, or by hand delivery. Please note that comments submitted on MEPA documents are public records. The mailing address for comments is: Secretary Robert W. Golledge, Jr., EOEA, Attn: MEPA Office, Richard Bourre, EOEA No.13473/13474, 100 Cambridge Street, Suite 900, Boston MA 02114.

Dated: October 23, 2006.
Joel C. Richard,
Secretary, Maritime Administration.

[FR Doc. E6-17942 Filed 10-25-06; 8:45 am]

BILLING CODE 4910-81-P